DEPARTMENT OF DEFENSE

Office of the Secretary

Defense Legal Policy Board; Notice of Federal Advisory Committee Meeting

AGENCY: Department of Defense.

ACTION: Notice.

SUMMARY: Under the provisions of the Federal Advisory Committee Act of 1972 (5 U.S.C., Appendix, as amended), the Government in the Sunshine Act of 1976 (5 U.S.C. 552b, as amended), and 41 CFR 102-3.150, the Department of Defense (DoD) announces the following federal advisory committee meeting of the Defense Legal Policy Board.

ADDRESSES: Holiday Inn Ballston, 4610 N. Fairfax Drive, Arlington, Virginia 22203.

DATES: A meeting of the Defense Legal Policy Board (hereafter referred to as “the Board”) will be held on Friday, February 15, 2013. The Public Session will begin at 9:00 a.m. and end at 4:00 p.m.

FOR FURTHER INFORMATION CONTACT: Mr. David Gruber, Defense Legal Policy Board, PO Box 3656, Arlington, VA 22203. Email: StaffDirectorDefenseLegalPolicyBoard@osd.mil. Phone: (703) 696-5449.

SUPPLEMENTARY INFORMATION:

Purpose of the Meeting: At this meeting, the Board will deliberate on the July 30, 2012 tasking from the Secretary of Defense to review certain military justice cases in combat zones. The Board is interested in written and oral comments from the public, including non-governmental organizations, relevant to this tasking. The mission of the Board is to advise the Secretary of Defense on legal and related legal policy matters within DoD, the achievement of DoD policy goals through legislation and regulations, and other assigned matters.

Agenda: Prior to the Public Session, the Board will conduct an Administrative Session starting at 8:30 a.m. and ending at 9:00 a.m. to address administrative matters. After the Public Session, the Board will conduct an Administrative Session starting at 4:00 p.m. and ending at 4:30 p.m. to prepare for upcoming meetings. Pursuant to 41 CFR 102-3.160, the public may not attend the Administrative Sessions.

Tentative Agenda (updates available from the Board's Staff Director at StaffDirectorDefenseLegalPolicyBoard@osd.mil).

• Testimony from representatives of the Secretaries of the Military Departments.

• Testimony from representatives of the military criminal investigation organizations.

• Testimony from subject matter experts on the military justice system.

• Receipt of public comments—3:00 p.m. to 4:00 p.m.

Availability of Materials for the Meeting: A copy of the agenda for the February 15, 2013 meeting and the tasking for the Subcommittee may be obtained at the meeting or from the Board's Staff Director at StaffDirectorDefenseLegalPolicyBoard@osd.mil.

Public's Accessibility to the Meeting: Pursuant to 5 U.S.C. 552b and 41 CFR 102-3.140 through 102-3.165, and the availability of space, part of this meeting is open to the public. Seating is limited and is on a first-come basis.

Special Accommodations: Individuals requiring special accommodations to access the public meeting should contact the Staff Director at StaffDirectorDefenseLegalPolicyBoard@osd.mil at least five (5) business days prior to the meeting so that appropriate arrangements can be made.

Procedures for Providing Public Comments: Pursuant to 41 CFR 102-3.105(j) and 102-3.140, and section 10(a)(3) of the Federal Advisory Committee Act of 1972, the public or interested organizations may submit written comments to the Board about its mission and topics pertaining to this public session. Written comments must be received by the Designated Federal Officer at least five (5) business days prior to the meeting date so that the comments may be made available to the Board for their consideration prior to the meeting. Written comments should be submitted via email to the address for the Designated Federal Officer in FOR FURTHER INFORMATION CONTACT in the following formats: Adobe Acrobat, WordPerfect, or Microsoft Word. Please note that since the Board operates under the provisions of the Federal Advisory Committee Act, as amended, all written comments will be treated as public documents and will be made available for public inspection. If members of the public are interested in making an oral statement, a written statement must be submitted as above along with a request to provide an oral statement. After reviewing the written comments, the Chairperson and the Designated Federal Officer will determine who of the requesting persons will be able to make an oral presentation of their issue during the open portion of this meeting. Determination of who will be making an oral presentation is at the sole discretion of the Committee Chair and the Designated Federal Officer and will depend on time available and relevance to the Committee's activities. Five minutes will be allotted to persons desiring to make an oral presentation. Oral presentations by members of the public will be permitted from 3:00 p.m. to 4:00 p.m. in front of the Board. The number of oral presentations to be made will depend on the number of requests received from members of the public.

Committee's Designated Federal Officer: The Board's Designated Federal Officer is Mr. James Schwenk, Defense Legal Policy Board, PO Box 3656, Arlington, VA 22203. Email: defenselegalpolicyboarddfo@osd.mil. Phone: (703) 697-9343. For meeting information please contact Mr. David Gruber, Defense Legal Policy Board, PO Box 3656, Arlington, VA 22203. Email: StaffDirectorDefenseLegalPolicyBoard@osd.mil. Phone: (703) 696-5449.

Dated: January 25, 2013.
Aaron Siegel,
Alternate OSD Federal Register Liaison Officer, Department of Defense.

[FR Doc. 2013-02033 Filed 1-30-13; 8:45 am]

BILLING CODE 5001-06-P